DEPARTMENT OF HEALTH AND HUMAN SERVICES

Administration for Children and Families

Submission for OMB Review; Comment Request

Title: Personal Responsibility Education Program (PREP) Multi-Component Evaluation—Design Survey.

OMB No.: New collection.

Description: The Family and Youth Services Bureau. (HHS/ACF/ACYF/FYSB) and the Office of Planning, Research, and Evaluation(HHS/ACF/OPRE) in the Administration for Children and Families (ACF) propose a data collection activity as part of the Personal Responsibility Education Program (PREP) Multi-Component Evaluation.

In addition to other activities, the PREP Evaluation will document the design of the PREP State grant programs via data gathered from States and selected sub-awardees funded by PREP. The findings will be of interest to the general public, federal and state policy-makers, PREP sub-awardees, community-based organizations, and other organizations interested in teen pregnancy prevention programming.

The proposed activity involves the collection of information through telephone conversations or in-person interviews held with administrators and program staff at the State and sub-awardee level. The data collection instrument will focus on information related to program context, administration, and design. This includes, but is not limited to: Program goals and strategy/approach, program setting, population characteristics, state-level requirements and processes, program monitoring, and training and technical assistance.

Respondents: State Level Coordinators; Program Directors; Program Staff; General Staff; Schools and Organizations; and Community-Based Organizations.

Annual Burden Estimates
Design survey: Instrument | Design survey: Annual number of eespondents | Design survey: Number of responses per respondent | Design survey: Average burden hours per response | Design survey: Total burden hours
Discussion Guide for use with State Level Coordinators and State-Level Staff | 46 | 1 | 1 | 46
Discussion Guide for use with Program Staff; Schools and Organizations; and Community-Based Organizations | 46 | 1 | 1 | 46
Estimated Annual Burden Total for Design Survey |  |  |  | 92

Additional Information: Copies of the proposed collection may be obtained by writing to the Administration for Children and Families, Office of Planning, Research, and Evaluation, 370 L'Enfant Promenade, SW., Washington, DC 20447, Attn: OPRE Reports Clearance Officer. All requests should be identified by the title of the information collection. Email address: OPREinfocollection@acf.hhs.gov. In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Robert Sargis,
Reports Clearance Officer.

[FR Doc. 2011-25849 Filed 10-5-11; 8:45 am]

BILLING CODE 4184-37-P